NUCLEAR REGULATORY COMMISSION

Notice of Availability of Internet Web Page for Discussion of the Nuclear Material Management and Safeguards System

AGENCY: Nuclear Regulatory Commission.

ACTION: Notice of availability.

SUMMARY: The staff of the U.S. Nuclear Regulatory Commission (NRC) is making available an Internet web site for the purpose of facilitating comments from NRC stakeholders pertaining to the on-going upgrade of the Nuclear Materials Management and Safeguards System. The Nuclear Materials Management and Safeguards System (NMMSS) serves as the U.S. Government's nuclear materials information system. It contains current and historic data on the possession and shipment of source ¹ and special nuclear material.² The NMMSS upgrade potentially could have an impact on the reporting burden of NRC licensees.

¹ As used by the International Atomic Energy Agency (IAEA), the term “source material” means uranium containing the mixture of isotopes occurring in nature; uranium depleted in the isotope 235; thorium; any of the foregoing in the form of metal, alloy, chemical compound, or concentrate; any other material containing one or more of the foregoing in such concentration as the IAEA Board of Governors shall from time to time determine; and such other material as the Board of Governors shall from time to time determine.

² Special nuclear material means (1) plutonium, uranium 233, uranium enriched in the isotope 233 or in the isotope 235, and any other material which the Commission, pursuant to the provisions of section 51 of the Atomic Energy Act, determines to be special nuclear material, but does not include source material; or (2) any material artificially enriched by any of the foregoing but does not include source material.

FOR FURTHER INFORMATION CONTACT: Barry Mendelsohn, Office of Nuclear Material Safety and Safeguards, U.S. Nuclear Regulatory Commission, Washington, DC 20555, telephone 301-415-7262, e-mail: btm1@nrc.gov

SUPPLEMENTARY INFORMATION:

Background

NMMSS satisfies the requirements of the Atomic Energy Act of 1954, as amended, for “a program for Government control of the possession, use, and production of atomic energy and special nuclear material, whether owned by the Government or others, so directed as to make the maximum contribution to the common defense and security and the national welfare, and to provide continued assurance of the Government's ability to enter into and enforce agreements with nations or groups of nations for the control of special nuclear materials . . .” It is used to satisfy obligations to the International Atomic Energy Agency for a State system of accountancy of source and special nuclear materials. Transaction, Inventory and Material Balance data are reported to NMMSS from 1130 facilities that are either operated for the Department of Energy (DOE) or regulated by the NRC.

NMMSS is managed jointly by the NRC and the DOE. It is operated by NAC International under contract to DOE.

The contractor currently runs NMMSS in a personal computer environment using the FoxPro data base management platform. The FoxPro platform is no longer supported by its owner. Because it is an obsolete platform, its use is a detriment to attracting and retaining competent contractor staff. Also, NMMSS is still based on the original 80-column design from 1965 main frame days. This limits the ability of programmers to make even minor format changes that users may request. Its current format does not adequately meet needs of the U.S. State Department for tracking foreign obligations attached to some foreign origin nuclear material.

NMMSS is being upgraded by NAC International to an Oracle platform and redesigned in order to respond to customers' needs. The changes to NMMSS from this upgrade may eventually require NRC licensees and certificate holders to make some conforming changes to the formats of their own materials management software.

The funding for the NMMSS contract is currently shared by the DOE and NRC with two-thirds provided by DOE and one-third by the NRC. The cost of the upgrade is also being shared, but with NRC being responsible for a somewhat lesser share of the funding. The NRC's NMMSS expenses contribute to fees charged to its licensees under the “full-fee recovery” provision of its appropriation legislation.

Internet Web Site

The full web address (URL) of the NRC's NMMSS web site is: http://techconf.llnl.gov/cgi-bin/library?source=html&library= nmmss_info&file=background

The web site can also be reached by the following method:

1. Go the main NRC web site at: http://www.nrc.gov

2. Scroll down towards the bottom of that page and click on the word “Rulemaking.”

3. Scroll down on the Rulemaking page till you see the words “Technical Conference.” Click on those words.

4. On the page titled “Welcome to the NRC Technical Conference Forum,” click where it says to participate in Technical Conferences.

5. Scroll down to the topic “Nuclear Materials Management and Safeguards System.” Comments may be submitted on-line by clicking on “comments.” You may also view other comments submitted by clicking on “comments.”

In addition to participating via the Internet, you may also submit comments in writing to the Nuclear Regulatory Commission, Attn: Barry T. Mendelsohn (ms T-8H7), Washington, DC 20555-0001.

Dated at Rockville, Maryland, this 9th day of August 2000.
For the Nuclear Regulatory Commission.
Charles W. Emeigh,
Section Chief, Safety and Safeguards Support Branch, Division of Fuel Cycle Safety and Safeguards, Office of Nuclear Material Safety and Safeguards.

[FR Doc. 00-20842 Filed 8-15-00; 8:45 am]

BILLING CODE 7590-01-P